DEPARTMENT OF COMMERCE

International Trade Administration

Initiation of Antidumping and Countervailing Duty Administrative Reviews; Correction

AGENCY: Import Administration, International Trade Administration, Department of Commerce.

SUMMARY: The Department of Commerce (“the Department”) published a notice in the Federal Register on March 31, 2011, concerning the initiation of administrative reviews of various antidumping and countervailing duty orders and findings with February anniversary dates. The document contained incorrect information in the “Separate Rates” section.

DATES: Effective Date: May 3, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

Background

In the Federal Register notice Initiation of Antidumping Duty Administrative Reviews, Requests, for Revocation in Part, and Deferral of Administrative Review, 76 FR 17825, 17826 (March 31, 2011), under the section entitled “Separate Rates,” we note that in the third paragraph of that section, concerning information on the filing of Separate Rate Certifications, we stated that the certifications are due to the Department no later than 30 calendar days after publication of this Federal Register notice. This was a typographical error. That sentence should read as follows: “Separate Rate Certifications are due to the Department no later than 60 calendar days after publication of this Federal Register notice.”

Dated: April 27, 2011.
Christian Marsh,
Deputy Assistant Secretary for Antidumping and Countervailing Duty Operations.

[FR Doc. 2011-10762 Filed 5-2-11; 8:45 am]

BILLING CODE 3510-DS-P